NUCLEAR REGULATORY COMMISSION

Advisory Committee on Reactor Safeguards; Meeting Notice

In accordance with the purposes of Sections 29 and 182b. of the Atomic Energy Act (42 U.S.C. 2039, 2232b), the Advisory Committee on Reactor Safeguards (ACRS) will hold a meeting on December 3-6, 2003, 11545 Rockville Pike, Rockville, Maryland. The date of this meeting was previously published in the Federal Register on Monday, November 20, 2002 (67 FR 70094).

Wednesday, December 3, 2003, Conference Room T-2B3, Two White Flint North, Rockville, Maryland

1:30 p.m.-1:35 p.m.: Opening Remarks by the ACRS Chairman (Open)—The ACRS Chairman will make opening remarks regarding the conduct of the meeting.

1:35 p.m.-6:30 p.m.: Draft Report on the NRC Safety Research Program (Open)—The Committee will hold a discussion of the Draft ACRS report on the NRC Safety Research Program.

6:45 p.m.-7:15 p.m.: Preparation of ACRS Report (Closed)—The Committee will discuss proposed ACRS report on Safeguards and Security matters.

Thursday, December 4, 2003, Conference Room T-2B3, Two White Flint North, Rockville, Maryland

8:30 a.m.-8:35 a.m.: Opening Remarks by the ACRS Chairman (Open)—The ACRS Chairman will make opening remarks regarding the conduct of the meeting.

8:35 a.m.-10:30 a.m.: Draft Final 10 CFR Part 52 Construction Inspection Program Framework (Open)—The Committee will hear presentations by and hold discussions with representatives of the NRC staff regarding the draft final construction inspection program framework for advanced reactor designs and the staff's resolution of public comments.

10:45 a.m.-12:15 p.m.: Proposed Revisions to SRP Chapter 18, Human Factors Engineering (Open)—The Committee will hear presentations by and hold discussions with representatives of the NRC staff regarding the proposed revisions to the Standard Review Plan (SRP) Chapter 18, Human Factors Engineering.

1:15 p.m.-2:15 p.m.: Draft Final Revision to 10 CFR 50.48 to Endorse NFPA 805 Fire Protection Standard (Open)—The Committee will hear presentations by and hold discussions with representatives of the NRC staff regarding the draft final revisions to 10 CFR 50.48, which will permit licensees to adopt National Fire Protection Association (NFPA) 805 Standard, as an alternative to the existing fire protection requirements.

2:15 p.m.-3:15 p.m.: Recent Operating Events (Open)—The Committee will hear a briefing by and hold discussions with the cognizant ACRS member regarding significant recent operating events.

3:30 p.m.-7 p.m.: Preparation of ACRS Reports (Open/Closed)—The Committee will discuss proposed ACRS reports on matters considered during this meeting. In addition, the Committee will discuss a proposed ACRS report on safeguards and security matters (Closed).

Friday, December 5, 2003, Conference Room T-2B3, Two White Flint North, Rockville, Maryland

8:30 a.m.-8:35 a.m.: Opening Remarks by the ACRS Chairman (Open)—The ACRS Chairman will make opening remarks regarding the conduct of the meeting.

8:35 a.m.-9 a.m.: Subcommittee Report on the Interim Review of the License Renewal Application for the V. C. Summer Nuclear Power Plant (Open)—The Committee will hear a report by and hold discussions with the Chairman of the ACRS Subcommittee on Plant License Renewal regarding the review of the V. C. Summer license renewal application and the staff's initial Safety Evaluation Report.

9 a.m.-10 a.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

10:15 a.m.-10:30 a.m.: Reconciliation of ACRS Comments and Recommendations (Open)—The Committee will discuss the responses from the NRC Executive Director for Operations (EDO) to comments and recommendations included in recent ACRS reports and letters. The EDO responses are expected to be made available to the Committee prior to the meeting.

10:30 a.m.-11 a.m.: Election of ACRS Officers (Open)—The Committee will elect Chairman and Vice Chairman for the ACRS and Member-at-Large for the Planning and Procedures Subcommittee for 2004.

2 p.m.-7 p.m.: Preparation of ACRS Reports (Open/Closed)—The Committee will discuss proposed ACRS reports on matters considered during this meeting. In addition, the Committee will discuss a proposed ACRS report on safeguards and security matters (Closed).

Saturday, December 7, 2003, Conference Room T-2B3, Two White Flint North, Rockville, Maryland

8:30 a.m.-12 Noon: Preparation of ACRS Reports (Open/Closed)—The Committee will continue discussion of the proposed ACRS reports on matters considered during its meeting. In addition, the Committee will discuss a proposed ACRS report on Safeguards and Security matters (Closed).

12 Noon-2:30 p.m.: Miscellaneous (Open)—The Committee will discuss matters related to the conduct of Committee activities and matters and specific issues that were not completed during previous meetings, as time and availability of information permit.

Procedures for the conduct of and participation in ACRS meetings were published in the Federal Register on October 16, 2003 (68 FR 59644). In accordance with those procedures, oral or written views may be presented by members of the public, including representatives of the nuclear industry. Electronic recordings will be permitted only during the open portions of the meeting. Persons desiring to make oral statements should notify the Associate Director for Technical Support named below five days before the meeting, if possible, so that appropriate arrangements can be made to allow necessary time during the meeting for such statements. Use of still, motion picture, and television cameras during the meeting may be limited to selected portions of the meeting as determined by the Chairman. Information regarding the time to be set aside for this purpose may be obtained by contacting the Associate Director for Technical Support prior to the meeting. In view of the possibility that the schedule for ACRS meetings may be adjusted by the Chairman as necessary to facilitate the conduct of the meeting, persons planning to attend should check with the Associate Director for Technical Support if such rescheduling would result in major inconvenience.

In accordance with subsection 10(d) Pub. L. 92-463, I have determined that it is necessary to close portions of this meeting noted above to discuss and protect information classified as national security information as well as unclassified safeguards information pursuant to 5 U.S.C. 552b(c)(1) and (3).

Further information regarding topics to be discussed, whether the meeting has been canceled or rescheduled, as well as the Chairman's ruling on requests for the opportunity to present oral statements and the time allotted therefor can be obtained by contacting Dr. Sher Bahadur, Associate Director for Technical Support (301) 415-0138, between 7:30 a.m. and 4:15 p.m., ET.

ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACRS meetings. Those wishing to use this service for observing ACRS meetings should contact Mr. Theron Brown, ACRS Audio Visual Technician (301-415-8066), between 7:30 a.m. and 3:45 p.m., ET, at least 10 days before the meeting to ensure the availability of this service. Individuals or organizations requesting this service will be responsible for telephone line charges and for providing the equipment and facilities that they use to establish the videoteleconferencing link. The availability of videoteleconferencing services is not guaranteed.

The ACRS meeting dates for Calendar Year 2004 are provided below:

ACRS meeting No. | Meeting Dates
— | January 2004—No meeting.
509 | February 5-7, 2004.
510 | March 4-6, 2004.
511 | April 15-17, 2004.
512 | May 6-8, 2004.
513 | June 2-4, 2004.
514 | July 14-16, 2004.
— | August 2004—No meeting.
515 | September 8-11, 2004.
516 | October 7-9, 2004.
517 | November 4-6, 2004.
518 | December 2-4, 2004.

Dated: November 17, 2003.
Andrew L. Bates,
Advisory Committee Management Officer.

[FR Doc. 03-29104 Filed 11-20-03; 8:45 am]

BILLING CODE 7590-01-P